SMALL BUSINESS ADMINISTRATION

Advisory Committee on Veterans Business Affairs

AGENCY: U.S. Small Business Administration.

ACTION: Notice of open Federal Advisory Committee meeting.

SUMMARY: The SBA is issuing this notice to announce the location, date, time, and agenda for the next meeting of the Advisory Committee on Veterans Business Affairs. The meeting will be open to the public.

DATES: December 5, 2013 from 9 a.m. to 3 p.m.

ADDRESSES: U.S. Small Business Administration, 409 3rd Street SW., Washington, DC 20416. Room: Eisenhower Conference room B, located on the Concourse Level.

SUPPLEMENTARY INFORMATION: Pursuant to section 10(a)(2) of the Federal Advisory Committee Act (5 U.S.C., Appendix 2), SBA announces the meeting of the Advisory Committee on Veterans Business Affairs. The Advisory Committee on Veterans Business Affairs serves as an independent source of advice and policy recommendation to the Administrator of the U.S. Small Business Administration.

The purpose of this meeting is scheduled as a full committee meeting. It will focus on strategic planning, updates on past and current events, and the ACVBA's objectives for 2014. For information regarding our veterans' resources and partners, please visit our Web site at www.sba.gov/vets.

FOR FURTHER INFORMATION CONTACT: The meeting is open to the public, however, advance notice of attendance is requested. Anyone wishing to attend and/or make a presentation to the Advisory Committee must contact Barbara Carson, by December 2, 2013, by email in order to be placed on the agenda. Comments for the Record should be emailed prior to the meeting for inclusion in the public record, verbal presentations; however, will be limited to five minutes in the interest of time and to accommodate as many presenters as possible. Written comments should be emailed to Barbara Carson, Deputy Associate Administrator, Office of Veterans Business Development, U.S. Small Business Administration, 409 3rd Street SW., Washington, DC 20416.

Additionally, if you need accommodations because of a disability or require additional information, please contact Barbara Carson, Designated Federal Official for the Advisory Committee on Veterans Business Affairs at (202) 205-6773; or by email at barbara.carson@sba.gov. For more information, please visit our Web site at www.sba.gov/vets.

Dated: November 14, 2013
Diana Doukas,
SBA Committee Management Officer.

[FR Doc. 2013-27988 Filed 11-21-13; 8:45 am]

BILLING CODE P